DEPARTMENT OF HEALTH AND HUMAN SERVICES

Centers for Disease Control and Prevention

[Program Announcement 04094]

Applied Research on Antimicrobial Resistance (AR): Estimates of Economic Cost for Antimicrobial Resistant Human Pathogens of Public Health Importance; Notice of Availability of Funds-Amendment

A notice announcing the availability of fiscal year (FY) 2004 funds for a grant Applied Research on Antimicrobial Resistance (AR): Estimates of Economic Cost for Antimicrobial Resistant Human Pathogens of Public Health Importance was published in the Federal Register April 30, 2004, Volume 69, Number 84, pages 23759-23763. The notice is amended as follows: Page 23759, third column, section I. Funding Opportunity Description, and Page 23760, second column, Research Objective II, change action item 30 to 33.

Dated: May 24, 2004.
William P. Nichols,
Acting Director, Procurement and Grants Office, Centers for Disease Control and Prevention.

[FR Doc. 04-12227 Filed 5-28-04; 8:45 am]

BILLING CODE 4163-18-P